DEPARTMENT OF THE INTERIOR

Fish and Wildlife Service

Endangered and Threatened Wildlife and Plants; 5-Year Review

AGENCY: Fish and Wildlife Service, Interior.

ACTION: Extension of comment period.

Endangered and Threatened Wildlife and Plants; Extension of Comment Period for the Valley Elderberry Longhorn Beetle, Smith's Blue Butterfly, Delhi Sands Flower-Loving Fly, Morro Shoulderband Snail, Giant Garter Snake, San Francisco Garter Snake, Island Night Lizard, California Least Tern, Least Bell's Vireo, Chinese Camp Brodiaea, Mariposa Pussypaws, San Clemente Island Indian Paintbrush, Spring-Loving Centaury, Springville Clarkia, San Clemente Island Larkspur, Santa Barbara Island Dudleya, Ash Meadows Gumplant, San Clemente Island Woodland Star, San Clemente Island Lotus, San Clemente Island Bush Mallow, Amargosa Niterwort, Eureka Valley Evening Primrose, Yreka Phlox, Hartweg's Golden Sunburst, San Joaquin Adobe Sunburst, Santa Cruz Island Rock-Cress, Keck's Checker-mallow, Eureka Dune Grass, Kneeland Prairie Pennycress, Hidden Lake Bluecurls, and Red Hills Vervain 5-Year Reviews.

SUMMARY: We, the U.S. Fish and Wildlife Service, announce an extension of the comment period for the 5-year reviews of 31 listed species in Table 1 below, under section 4(c)(2)(A) of the Endangered Species Act (Act). The first request for information closed September 6, 2005. The purpose of a 5-year review is to ensure that the classification of a species as threatened or endangered on the List of Endangered and Threatened Wildlife and Plants is accurate and based on the best scientific and commercial data available at the time of the review. We are requesting submission of any such information that has become available since the original listing of each of these 31 species. Based on the results of these 5-year reviews, we will make the requisite findings under section 4(c)(2)(B) of the Act.

Table 1.—Summary of the Listing Information for the Following 31 Species
Common name | Scientific name | Status | Where listed | Final listing rule
Valley elderberry longhorn beetle | Desmocerus californicus dimorphus | Threatened | U.S.A. (CA) | 45 FR 52803 (8-AUG-80).
Smith's blue butterfly | Euphilotes enoptes smithi | Endangered | U.S.A. (CA) | 41 FR 22041 (1-JUN-76).
Delhi Sands flower-loving fly | Rhaphiomidas terminatus abdominalis | Endangered | U.S.A. (CA) | 58 FR 49881 (23-SEP-93).
Morro shoulderband snail | Helminthoglypta walkeriana | Endangered | U.S.A. (CA) | 59 FR 64613 (15-DEC-94).
Giant garter snake | Thamnophis gigas | Threatened | U.S.A. (CA) | 58 FR 54053 (20-OCT-93).
San Francisco garter snake | Thamnophis sirtalis tetrataenia | Endangered | U.S.A. (CA) | 32 FR 4001 (11-MAR-67).
Island night lizard | Xantusia riversiana | Threatened | U.S.A. (CA) | 42 FR 40682 (11-AUG-77).
California least tern | Sterna antillarum browni | Endangered | U.S.A. (CA) Mexico | 35 FR 8491 (2-JUN-70).
Least Bell's vireo | Vireo bellii pusillus | Endangered | U.S.A. (CA) Mexico | 1 FR 16474 (2-MAY-86).
Chinese Camp brodiaea | Brodiaea pallida | Threatened | U.S.A. (CA) | 63 FR 49022 (14-SEP-98).
Mariposa pussypaws | Calyptridium pulchellum | Threatened | U.S.A. (CA) | 63 FR 49022 (14-SEP-98).
San Clemente Island Indian paintbrush | Castilleja grisea | Endangered | U.S.A. (CA) | 42 FR 40682 (11-AUG-77).
Spring-loving centaury | Centaurium namophilum | Threatened | U.S.A. (CA, NV) | 50 FR 20777 (20-MAY-85).
Springville clarkia | Clarkia springvillensis | Threatened | U.S.A. (CA) | 63 FR 49022 (14-SEP-98).
San Clemente Island larkspur | Delphinium variegatum var. kinkiense | Endangered | U.S.A. (CA) | 42 FR 40682 (11-AUG-77).
Santa Barbara Island dudleya | Dudleya traskiae | Endangered | U.S.A. (CA) | 43 FR 17910 (26-APR-78).
Ash meadows gumplant | Grindelia fraxino-pratensis | Threatened | U.S.A. (CA, NV) | 50 FR 20777 (20-MAY-85).
San Clemente Island woodland star | Lithophragma maximum | Endangered | U.S.A. (CA) | 62 FR 42692 (8-AUG-97).
San Clemente Island lotus | Lotus dendroideus var. traskiae | Endangered | U.S.A. (CA) | 42 FR 40682 (11-AUG-77).
San Clemente Island bush mallow | Malacothamnus clementinus | Endangered | U.S.A. (CA) | 42 FR 40682 (11-AUG-77).
Amargosa niterwort | Nitrophila mohavensis | Endangered | U.S.A. (CA, NV) | 50 FR 20777 (20-MAY-85).
Eureka Valley evening primrose | Oenothera californica ssp. eurekensis | Endangered | U.S.A. (CA) | 43 FR 17910 (26-APR-78).
Yreka phlox | Phlox hirsuta | Endangered | U.S.A. (CA) | 65 FR 5268 (3-FEB-00).
Hartweg's golden sunburst | Pseudobahia bahiifolia | Endangered | U.S.A. (CA) | 62 FR 5542 (6-FEB-97).
San Joaquin adobe sunburst | Pseudobahia peirsonii | Threatened | U.S.A. (CA) | 62 FR 5542 (6-FEB-97).
Santa Cruz Island rock-cress | Sibara filifolia | Endangered | U.S.A. (CA) | 62 FR 42692 (8-AUG-97).
Keck's checker-mallow | Sidalcea keckii | Endangered | U.S.A. (CA) | 65 FR 7757 (16-FEB-00).
Eureka Dune grass | Swallenia alexandrae | Endangered | U.S.A. (CA) | 43 FR 17910 (26-APR-78).
Kneeland Prairie pennycress | Thlaspi californicum | Endangered | U.S.A. (CA) | 65 FR 6332 (9-SEP-00).
Hidden Lake bluecurls | Trichostema austromontanum ssp. compactum | Threatened | U.S.A. (CA) | 63 FR 49006 (14-SEP-98).
Red Hills vervain | Verbena californica | Threatened | U.S.A. (CA) | 63 FR 49022 (14-SEP-98).

DATES: To allow us adequate time to conduct these reviews, we must receive your information no later than January 3, 2006.

ADDRESSES: Information may be submitted to the following U.S. Fish and Wildlife Service's Fish and Wildlife Offices:

For the Delhi Sands flower-loving fly, island night lizard, California least tern, least Bell's vireo, San Clemente Island Indian paintbrush, San Clemente Island larkspur, San Clemente Island woodland star, San Clemente Island lotus, San Clemente Island bush mallow, Santa Cruz Island rock-cress, and Hidden Lake bluecurls, submit comments to the Field Supervisor, Attention: 5-Year Review, U.S. Fish and Wildlife Service, Carlsbad Fish and Wildlife Office, 6010 Hidden Valley Road, Carlsbad, California 92009. Information may also be submitted electronically at fw1cfwo_5yr@fws.gov.

For the Smith's blue butterfly, Morro shoulderband snail, Santa Barbara Island dudleya, Eureka Valley evening primrose, and Eureka Dune grass, submit comments to the Field Supervisor, Attention: 5-Year Review, U.S. Fish and Wildlife Service, Ventura Fish and Wildlife Office, 2493 Portola Road, Suite B, Ventura, California 93003. Information may also be submitted electronically at fw1vfwo5year@fws.gov.

For the Valley elderberry longhorn beetle, giant garter snake, San Francisco garter snake, Chinese Camp brodiaea, Mariposa pussypaws, Springville clarkia, Hartweg's golden sunburst, San Joaquin adobe sunburst, Keck's checker-mallow, and Red Hills vervain, submit comments to the Field Supervisor, Attention: 5-Year Review, U.S. Fish and Wildlife Service, Sacramento Fish and Wildlife Office, 2800 Cottage Way, Room W-2605, Sacramento, California 95825. Information may also be submitted electronically at fw1sfo5year@fws.gov.

For Ash Meadows gumplant, spring-loving centaury, and Amargosa niterwort, submit comments to the Field Supervisor, Attention: 5-Year Review, U.S. Fish and Wildlife Service, Nevada Fish and Wildlife Office, 1340 Financial Blvd., Suite 234, Reno, NV 89502. Information may also be submitted electronically at fw1nfwo_5yr@fws.gov.

For Kneeland Prairie pennycress, submit comments to the Field Supervisor, Attention: 5-Year Review, U.S. Fish and Wildlife Service, Arctata Fish and Wildlife Office, 11655 Heindon Road, Arcata, California 95521. Information may also be submitted electronically at fw8kneelandpennycress@fws.gov. Please note that this electronic mail address is different than the address given in the July 7, 2005, notice opening the first comment period.

For Yreka phlox, submit comments to the Field Supervisor, Attention: 5-Year Review, U.S. Fish and Wildlife Service, Yreka Fish and Wildlife Office, 1829 S. Oregon Street, Yreka, California 96097. Information may also be submitted electronically at fw1yrekaphlox@fws.gov.

Information received in response to this notice and these reviews will be available for public inspection, by appointment, during normal business hours, at the appropriate above addresses.

FOR FURTHER INFORMATION CONTACT: For the Delhi Sands flower-loving fly, island night lizard, California least tern, least Bell's vireo, San Clemente Island Indian paintbrush, San Clemente Island larkspur, San Clemente Island woodland star, San Clemente Island lotus, San Clemente Island bush mallow, Santa Cruz Island rock-cress, or Hidden Lake bluecurls, contact Tannika Engelhard at the Carlsbad Fish and Wildlife Office at (760) 431-9440. For the Smith's blue butterfly, Morro shoulderband snail, Santa Barbara Island dudleya, Eureka Valley evening primrose, or Eureka Dune grass, contact Mike McCrary at the Ventura Fish and Wildlife Office at (805) 644-1766. For the Valley elderberry longhorn beetle, giant garter snake, San Francisco garter snake, Chinese Camp brodiaea, Mariposa pussypaws, Springville clarkia, Hartweg's golden sunburst, San Joaquin adobe sunburst, Keck's checker-mallow, and Red Hills vervain, contact Craig Aubrey at the Sacramento Fish and Wildlife Office at (916) 414-6600. For Ash Meadows gumplant, spring-loving centaury, Amargosa niterwort, contact Steve Caicco at the Nevada Fish and Wildlife Office at (775) 861-6300. For Kneeland Prairie pennycress, contact Dave Imper at the Arcata Fish and Wildlife Office at (707) 822-7201. For Yreka phlox, contact Nadine Kanim at the Yreka Fish and Wildlife Office at (530) 842-5763.

SUPPLEMENTARY INFORMATION: Section 4(c)(2)(A) of the Act requires that we conduct a review of listed species at least once every 5 years. The purpose of a 5-year review is to ensure that the classification of a species as threatened or endangered on the List is accurate. The 5-year review is an assessment of the best scientific and commercial data available at the time of the review that has become available since the species' original listing or its most recent status or 5-year review.

On July 7, 2005, we announced in a Federal Register notice (70 FR 39327) that we are commencing a 5-year review of the 31 species listed in Table 1 of this notice. The public comment period for the July 7, 2005, notice ended September 6, 2005.

The 5-year reviews for these species will assess: (a) Whether new information suggests that the species' populations are increasing, declining, or stable; (b) whether existing threats are increasing, the same, reduced, or eliminated; (c) if there are any new threats; and (d) if new information or analysis calls into question any of the conclusions in the original listing determinations as to the species' status. The review will also apply this new information to consideration of the appropriate application of the Policy Regarding the Recognition of Distinct Vertebrate Population Segments (61 FR 4722) to the listed entity, if applicable.

If there is no new information concerning the species in Table 1, no changes will be made to their classifications. However, if we find that there is new information indicating a change in classification is warranted for any of these species, we may propose a new rule that could either: (a) Reclassify the species from endangered to threatened; (b) reclassify the species from threatened to endangered or (c) remove the species from the List.

Public Solicitation of New Information

We are publishing this second request for any new information relating to the current status of the species listed in Table 1 that has become available since their original listings. In particular, we are seeking information such as:

A. Species biology including, but not limited to, population trends, distribution, abundance, demographics, and genetics;

B. Habitat conditions including, but not limited to, amount, distribution, and suitability;

C. Conservation measures that have been implemented that benefit the species;

D. Threat status and trends; and

E. Other new information, data, or corrections including, but not limited to, taxonomic or nomenclatural changes, or improved analytical methods.

Information submitted should be supported by documentation such as maps, bibliographic references, methods used to gather and analyze the data, and/or copies of any pertinent publications, reports, or letters by knowledgeable sources. Information submitted between the close of the first comment period on September 6, 2005, and today's date shall be considered in the reviews, along with information submitted within the timeframes established by the July 7, 2005, notice and this notice.

Authority: This document is published under the authority of the Endangered Species Act of 1973, as amended (16 U.S.C. 1531 et seq.).

Dated: October 27, 2005.
Paul Henson,
Acting Manager, California/Nevada Operations Office, U.S. Fish and Wildlife Service.

[FR Doc. 05-21912 Filed 11-2-05; 8:45 am]

BILLING CODE 4310-55-P